DEPARTMENT OF LABOR

Employment and Training Administration

[TA-W-58,315]

C & J Jewelry Company, Providence, RI; Notice of Termination of Investigation

Pursuant to section 221 of the Trade Act of 1974, as amended, an investigation was initiated on November 10, 2005 in response to a worker petition filed by a company official on behalf of workers at C & J Jewelry Company, Providence, Rhode Island.

The petitioner has requested that the petition be withdrawn. Consequently, the investigation has been terminated.

Signed at Washington, DC this 29th day of November, 2005.
Richard Church,
Certifying Officer, Division of Trade Adjustment Assistance.

[FR Doc. E5-7054 Filed 12-7-05; 8:45 am]

BILLING CODE 4510-30-P